DEPARTMENT OF AGRICULTURE

Grain Inspection, Packers and Stockyards Administration

United States Standards for Beans

AGENCY: Grain Inspection, Packers and Stockyards Administration, USDA.

ACTION: Final notice.

SUMMARY: This action is being taken under the authority of the Agricultural Marketing Act of 1946, as amended, (AMA). The Department of Agriculture's (USDA) Grain Inspection, Packers and Stockyards Administration (GIPSA) is revising the United States Standards for Beans to (1) establish a class and grade requirement chart for “chickpea,” also known as “garbanzo bean,” and (2) establish a new grade determining factor, definition, factor limits, and visual reference image for “contrasting chickpeas.” GIPSA believes these revisions will help facilitate the marketing of chickpeas and improve the application of the standards.

DATES: Effective Date: August 1, 2017.

FOR FURTHER INFORMATION CONTACT: Beverly A. Whalen at USDA, GIPSA, FGIS, 10383 N. Ambassador Drive, Kansas City, Missouri 64153; Telephone (816) 659-8410; Fax Number (816) 872-1258; email Beverly.A.Whalen@usda.gov.

SUPPLEMENTARY INFORMATION: Section 203(c) of the AMA (7 U.S.C. 1622(c)), directs and authorizes the Secretary of Agriculture “To develop and improve standards of quality, condition, quantity, grade, and packaging and recommend and demonstrate such standards in order to encourage uniformity and consistency in commercial practices.” GIPSA is committed to carrying out this authority in a manner that facilitates the marketing of agricultural commodities.

Under the AMA, GIPSA establishes and maintains standards for graded commodities including rice, whole dry peas, split peas, feed peas, lentils, and beans. The AMA standards are voluntary and widely used in private contracts, government procurement, marketing communication, and/or consumer information. The standards serve as a common trading language to define commodity quality in the domestic and global marketplace.

Background

GIPSA engages in regular outreach with stakeholders to ensure commodity standards maintain relevance with the modern market. Chickpea industry stakeholders include the USA Dry Pea and Lentil Council (USADPLC), a national organization of producers, processors, and exporters of U.S. dry peas, lentils, and chickpeas; the U.S. Dry Pea and Lentil Trade Association (USPLTA), a national association representing processors, traders, handlers and merchandisers, and transporters in the pea, lentil and chickpea industry; and the US Dry Bean Council (USDBC) representing the U.S. dry bean industry, including growers, shippers, dealers, canners, and local and regional trade associations.

The United States Standards for Beans are available on GIPSA's public Web site at: http://www.gipsa.usda.gov/fgis/standards/Bean-Standards.pdf. USDPLC and USPLTA reviewed the United States Standards for Beans, which were last revised in 2008. Currently, chickpeas are graded under the Miscellaneous Bean standard. This is confusing to the market because GIPSA issues an “AMA Commodity Inspection Certificate” providing the commonly accepted commercial name, “chickpea” or “garbanzo” as the class on the certificate grade line. Specifically, industry stakeholders asked GIPSA to (1) establish a class and grade requirement chart for “chickpeas,” (2) use the terms “chickpeas” and “garbanzo beans” interchangeably, and (3) establish a new grade determining factor, definition, factor limits, and visual reference image for “contrasting chickpeas.”

GIPSA provides official inspection procedures for beans in the Bean Handbook, found on GIPSA's public Web site at: https://www.gipsa.usda.gov/fgis/handbook/BeanHB/BeanHandbook_2016-02-23.pdf.

Establishment of Class “Chickpeas” and Grade Requirements

The stakeholders jointly recommended that GIPSA establish a new class and grade requirement chart for “chickpea,” and also recommended a new grade determining factor, definition, and factor limits for grades No's 1, 2, and 3 for “contrasting chickpeas.” GIPSA and these stakeholders collaborated to develop a visual reference image that best reflects the “contrasting chickpeas” condition. Additionally, the stakeholders endorsed the following definition: Contrasting chickpeas are chickpeas that differ substantially in shape or color.

Comment Review

GIPSA published a Notice in the Federal Register on May 15, 2017 (82 FR 22306), inviting interested parties to comment on the proposed revisions to the U.S. Standards for Beans. One comment was received, which was supportive of proposed revisions. GIPSA did not receive adverse comments. Accordingly, the bean standards are revised as published in this final notice, with a technical correction in the table in new Section 135.

Section 135 is corrected to remove footnote 3 that appeared in the May 15, 2017, Notice for Comment inviting public comment. The footnote stated “³ Beans with more than 5.0 percent contrasting chickpeas are graded mixed beans.” The footnote was errantly included in the table. Contrasting chickpeas are not counted toward mixed beans, thus the footnote should not have appeared in the table.

GIPSA believes these revisions will facilitate the use of the standards and better reflect current marketing practices. The revisions to the standards are effective August 1, 2017. The Bean Handbook will be revised to incorporate the revisions to the standards.

Final Action

GIPSA is revising the bean standards to (1) establish a class and grade requirement chart for chickpeas, and (2) establish a new grade determining factor, definition, factor limits, and visual reference image for contrasting chickpeas.

Under Terms Defined:

Section 102, Classes, is amended to include Chickpeas (Garbanzo Beans).

A new Section 122 is added. Contrasting chickpeas are chickpeas that differ substantially in shape or color.

Under Principles Governing Application of the Standards:

Current Sections 122, 123, and 124 are renumbered to 123, 124, and 125 with no change to the text.

Under Grades, Grade Requirements, Grade Designations, Special Grades, and Special Grade Requirements:

Current Sections 125, 126, 127, 128, 129, 130, 131, 132, 133 are renumbered to 126, 127, 128, 129, 130, 131, 132, 133, 134, with no change to the text.

A new Section 135, Grade and grade requirements for the class Chickpeas (Garbanzo Beans) is added.

Current Sections 134 and 135 are renumbered to 136 and 137, respectively, with no change to the text.

135 Grades and Grade Requirements for the Class Chickpea
[Garbanzo bean]
Grade | Percent maximum limits of—: Moisture ¹ | Percent maximum limits of—: Total defects (total damaged, total foreign material, contrasting classes, & splits) | Percent maximum limits of—: Total damaged | Percent maximum limits of—: Foreign material: Total (including stones) | Percent maximum limits of—: Foreign material: Stones | Percent maximum limits of—: Contrasting classes ² | Percent maximum limits of—: Contrasting chickpeas
U.S. No. 1 | 18.0 | 2.0 | 2.0 | 0.5 | 0.2 | 0.5 | 1.0
U.S. No. 2 | 18.0 | 4.0 | 4.0 | 1.0 | 0.4 | 1.0 | 2.0
U.S. No. 3 | 18.0 | 6.0 | 6.0 | 1.5 | 0.6 | 2.0 | 5.0
U.S. Substandard are beans that do not meet the requirements for the grades U.S. No. 1 through U.S. No. 3 or U.S. Sample grade. Beans that are not well screened must also be U.S. Substandard, except for beans that meet the requirements for U.S. Sample grade.
U.S. Sample grade are beans that are musty, sour, heating, materially weathered, or weevily; have any commercially objectionable odor; contain insect webbing or filth, animal filth, any unknown foreign substance, broken glass, or metal fragments; or are otherwise of distinctly low quality.
¹ Beans with more than 18.0 percent moisture are graded high moisture.
² Beans with more than 2.0 percent contrasting classes are graded mixed beans.

Authority: 7 U.S.C. 1621-1627.

Randall D. Jones,
Acting Administrator, Grain Inspection, Packers and Stockyards Administration.

[FR Doc. 2017-14309 Filed 7-6-17; 8:45 a.m.]

BILLING CODE 3410-KD-P